DEPARTMENT OF STATE

[Public Notice 5083]

Notice Convening an Accountability Review Board for the January 29, 2005, Rocket Attack on the U.S. Embassy in Baghdad, Iraq, Which Caused the Deaths of LCDR Keith Taylor, USN, and Ms. Barbara Heald

Pursuant to section 301 of the Omnibus Diplomatic Security and Antiterrorism Act of 1986, as amended (22 U.S.C. 4831 et seq.), the Secretary of State has determined that the January 29, 2005 deaths of LCDR Keith Taylor, USN, and Ms. Barbara Heald of the U.S. Embassy in Baghdad, Iraq, involved loss of life at or related to a U.S. mission abroad. Therefore, the Secretary has convened an Accountability Review Board, as required by that statute, to examine the facts and the circumstances of the attack and to report to me such findings and recommendations as it deems appropriate, in keeping with the attached mandate.

The Secretary has appointed Edward G. Lanpher, a retired U.S. Ambassador, as Chair of the Board. He will be assisted by M. Bart Flaherty, Frederick Mecke, Mike Absher, Laurie Tracy and by Executive Secretary to the Board, Douglas Hengel. They bring to their deliberations distinguished backgrounds in government service and/or in the private sector.

The Board will submit its conclusions and recommendations to Secretary Rice within 60 days of its first meeting, unless the Chair determines a need for additional time. Appropriate action will be taken and reports submitted to Congress on any recommendations made by the Board.

Anyone with information relevant to the Board's examination of this incident should contact the Board promptly at (202) 203-7149 or send a fax to the Board at (202) 203-7143.

This notice shall be published in the Federal Register.
Dated: May 10, 2005.
Christopher B. Burnham,
Acting Under Secretary for Management, Department of State.

[FR Doc. 05-9910 Filed 5-17-05; 8:45 am]

BILLING CODE 4710-35-P